DEPARTMENT OF ENERGY

Federal Energy Regulatory Commission

[Docket Nos. ER01-2831-000]

Tampa Electric Company; Notice of Filing

August 31, 2001.

Take notice that on August 20, 2001, Tampa Electric Company (Tampa Electric) amends its August 13, 2001 filing in Docket No. ER01-2831-000 by withdrawing the notice of cancellation of the Contract for the Purchase and Sale of Power and Energy between Tampa Electric and NP Energy Inc. (NP Energy).

The August 13 filing in Docket No. ER01-2831-000 is not withdrawn altogether. Tampa Electric continues to request that its notice of cancellation of the Service Agreement be accepted for filing and made effective August 13, 2001.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 10, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.,
Acting Secretary.

[FR Doc. 01-22498 Filed 9-6-01; 8:45 am]

BILLING CODE 6717-01-P